DEPARTMENT OF TRANSPORTATION

Federal Transit Administration

FTA Fiscal Year 2005 Apportionments, Allocations and Program Information; Notice of Supplemental Information, Changes, and Corrections

AGENCY: Federal Transit Administration (FTA), DOT.

ACTION: Notice.

SUMMARY: This notice makes the full amount of the FTA fiscal year (FY) 2005 program apportionments or allocations available for obligation. In addition, it announces changes and corrections to the December 29, 2004, “FTA Fiscal Year 2005 Apportionments, Allocations and Program Information; Notice,” based on language in the “Safe, Accountable, Flexible, Efficient Transportation Equity Act: A Legacy for Users (SAFETEA-LU), (Pub. L. 109-59); technical amendments for transit in the “Emergency Supplemental Appropriations Act for Defense, the Global War on Terror, and Tsunami Relief, 2005” (Pub. L. 109-13, hereafter called the 2005 Emergency Supplemental Appropriations Act); congressional clarifications; and FTA's administrative decision to extend the period of availability of FY 2005 Elderly and Persons with Disabilities Program (section 5310) funding.

FOR FURTHER INFORMATION CONTACT: The appropriate FTA Regional Administrator or Mary Martha Churchman, Director, Office of Resource Management and State Programs, (202) 366-2053.

I. Funds Available for Obligation

SAFETEA-LU, signed into law by President Bush on August 10, 2005, reauthorizes transit and highway programs through September 30, 2009. The authorized transit programs are detailed in the Act as are program funding levels for FY 2005 through FY 2009.

SAFETEA-LU authorizes FY 2005 transit program funding levels at the same levels specified in the Consolidated Appropriations Act, 2005 (Pub. L. 108-447, December 8, 2005; hereafter called the 2005 Appropriations Act) as adjusted in the 2005 Emergency Supplemental Appropriations Act for the New Starts program. The program funding tables published in the December 29, 2004, Notice reflect the FY 2005 appropriated funding level for each program. The amount shown in the “Apportionment” or “Allocation” column of a table is the full amount now available for obligation by grantees, with the exception that amounts in some tables have been revised by FTA. The revised tables are included in this document and supersede those contained in the December 29, 2004, Notice.

The amount shown in the “Apportionment” or “Allocation” column includes both trust funds (contract authority) and general funds, and reflects the total dollar amount of obligation limitation and appropriations in the 2005 Appropriations Act. The authorized amounts for FY 2005 in SAFETEA-LU reflect the 0.80 percent rescission, which was applied proportionately to the discretionary budget authority and obligation limitation, and to each program, project and activity.

This document is posted on the FTA Web site at http://www.fta.dot.gov/25_ENG_HTML.htm. It is also available by calling the regional office. Each regional office will also distribute this notice by e-mail to its mailing list.

II. Changes and Corrections

The information in the following paragraphs describes changes or corrections to the December 29, 2004, Notice. The changes are the result of compliance with overriding language in SAFETEA-LU or the 2005 Emergency Supplemental Appropriations Act; execution of an FTA administrative decision to extend the availability of section 5310 funds; implementation of changes for Bus and New Starts projects based on congressional correspondence on clarifications or technical corrections; Federal Highway Administration (FHWA) allotment of funds to FTA for certain projects identified in the conference report accompanying the 2005 Appropriations Act under section 117; and/or correction of errors identified by FTA.

A. Section 5309 Bus and Bus-Related Allocations (FY 2005 and Prior Years)

In the Federal Register Notice published December 29, 2004, two FY 2002 projects extended in the conference report were not included in Table 10 because the balances for these projects were included in amounts transferred to the New Starts program. In response to technical amendments included in the 2005 Emergency Supplemental Appropriations Act, these two projects have been added to the list of extended projects: WV, Morgantown Parking Facility and WY, Southern Teton Area Rapid Transit bus facility. In addition to these two projects, FTA is now able to honor intentions to extend lapsing earmarks expressed by Congress in either the House or Senate Committee Reports accompanying the 2005 Appropriations Act, and to extend a project that was reprogrammed in the Senate report. These projects have been added to Table 10.

Footnotes to the table describe the source of each action and the period of availability of reprogrammed projects. They also explain clarifications contained in letters to FTA from the House and Senate Appropriation Subcommittee Chairmen, and, where applicable, correction of a previously published balance.

For additional details or questions on a specific project please contact the appropriate FTA regional office or Ryan Hammon at (202) 366-2053.

B. Section 5309 New Starts Allocations (FY 2005 and Prior Years)

Table 11 shows revised FY 2005 section 5309 New Starts Allocations. The revised amounts are due to language in section 6061 of the 2005 Emergency Supplemental Appropriations Act, which reduced the amount allocated to eleven Full Funding Grant Agreement (FFGA) projects, which had been appropriated funds in excess of what was required to complete the FFGA. This technical amendment also corrected the amounts appropriated for the Northern New Jersey, Newark Elizabeth Rail Line MOS-1 and Northern New Jersey, Hudson-Bergen MOS-1 projects, which had been misnamed and switched in the original appropriation.

The allocation amount has been revised for the following projects:

• Los Angeles, MOS 3 Metro Rail (North Hollywood).

• Fort Lauderdale, South Florida Commuter Rail Upgrades.

• New Orleans, Canal Street Streetcar Project.

• Washington, DC/Metropolitan Area, Largo Extension.

• Minneapolis, Hiawatha Light Rail Project.

• St. Louis, Metro Link St. Clair Extension.

• Northern New Jersey, Newark Elizabeth Rail Line MOS-1.

• Northern New Jersey, Hudson-Bergen MOS-1.

• Pittsburgh, Stage II Light Rail Transit Reconstruction.

• Salt Lake City, CBD to University LRT.

• Salt Lake City, Medical Center Extension.

The unallocated balance in Table 11 reflects the reduction in the amount of funds transferred to the FY 2005 New Starts program from prior year unobligated balances.

As promised in the December 29, 2004 Notice, a list of the prior year projects for which the balances were transferred to New Starts is provided as follows:

BILLING CODE 4910-57-P

BILLING CODE 4910-57-C

There was one change to the extended projects listed in Table 12—Prior Year Unobligated Section 5309 New Starts Allocations. The unobligated amount for the Northeast Indianapolis, Indiana, Downtown Corridor Project was changed from $5,228,042 to $5,068,042 to reflect a previous obligation.

C. Fixed Guideway Modernization Adjustment

Language in sections 3035 and 3041 of SAFETEA-LU provides for the inclusion of Morgantown, WV as an eligible urbanized area for fixed guideway modernization apportionments. The language further directs that the FY 2005 fixed guideway modernization apportionments be adjusted (or recalculated) with the Morgantown fixed guideway mileage included. The FY 2005 fixed guideway modernization apportionments and unit values for the formula factors (route miles and vehicle revenue miles) have been revised accordingly, and are displayed in Table 7 and Table 5, respectively.

D. Technical Correction to Section 198 of the 2005 Appropriations Act

Section 198 of the 2005 Appropriations Act states, “For the purpose of any applicable law, for fiscal years 2004 and 2005, the city of Norman, Oklahoma, shall be considered to be part of the Oklahoma City urbanized area.” This provision has an unintended impact on the section 5307 apportionments for these urbanized areas, and also affects the apportionment of all urbanized areas with a population less than 1 million. In anticipation of a legislative technical correction, FTA did not apply this provision when apportioning FY 2005 section 5307 funds in the December 29, 2004, Notice.

Language in section 6063 of the 2005 Emergency Supplemental Appropriations Act amends section 198 to make clear that the provision is applicable to apportioning Federal-aid highway funds only. FTA apportionments are not affected.

E. Period of Availability for FY 2005 Section 5310 Extended

The period of availability for funds appropriated for the Elderly and Persons with Disabilities Program (49 U.S.C. 5310) is administratively established at one fiscal year. The December 29, 2004, Notice of FTA FY 2005 Apportionments and Allocations noted that FY 2005 funds allocated to the States under section 5310 must be obligated by September 30, 2005.

Due to the delayed availability of the full year's apportionment of FY 2005 section 5310 funds and the limited period during which the funds may be obligated, FTA is extending the period of availability for FY 2005 section 5310 funds by six months to provide flexibility to States that may need additional time to obligate all the FY 2005 funds. With this six-month extension, FY 2005 funds apportioned to States under section 5310 must be obligated by March 31, 2006.

F. FHWA Allotment of Section 117 Funds to FTA

Section 117 of the 2005 Appropriations Act references House Report 108-792 list of projects identified in the conference report, a number of which are transit projects, that are designated to receive funding from FHWA funding sources. To date, FHWA has allotted funding to FTA to administer several of the projects that are transit in nature. The projects and allotted funding are shown in the table below.

BILLING CODE 4910-57-P

BILLING CODE 4910-57-C

G. FTA Correction

The following correction is noted to information in the December 29, 2004, Notice.

• On page 78213, the heading on the table under paragraph I should read “RTAP” instead of “EMSP:.”

• On page 78214-78215, under paragraph “M. Over-the-Road Bus Accessibility Program,” the amounts allocable to providers for intercity fixed-route service and to other providers of over the road services (as specified in second the pargraph under subsection heading “1. Total Allocation”) should read $5,208,000 and $1,686,400, respectively, instead of $5,239,744 and $1,654,666.

Issued on: September 6, 2005.
Jennifer L. Dorn,
Administrator.

BILLING CODE 4910-57-P

[FR Doc. 05-18033 Filed 9-9-05; 8:45 am]

BILLING CODE 4910-57-C